DEPARTMENT OF COMMERCE

National Oceanic and Atmospheric Administration

Agency Information Collection Activities; Submission to the Office of Management and Budget (OMB) for Review and Approval; Comment Request; West Coast Region U.S. Pacific Highly Migratory Species Hook and Line Logbook

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 16, 2026.

ADDRESSES: Interested persons are invited to submit written comments to Adrienne Thomas, NOAA PRA Officer, at NOAA.PRA@noaa.gov. Please reference OMB Control Number 0648-0223 in the subject line of your comments. All comments received are part of the public record and will generally be posted on https://www.regulations.gov without change. Do not submit Confidential Business Information or otherwise sensitive or protected information.

FOR FURTHER INFORMATION CONTACT: Requests for additional information or specific questions related to collection activities should be directed to Alexander Rayburn, Scientist, National Marine Fisheries Service, West Coast Region, Portland, OR 97232, (503) 321-2007, or alexander.rayburn@noaa.gov.

SUPPLEMENTARY INFORMATION:

I. Abstract

This request is for extension of a currently approved collection. Under the Fishery Management Plan (FMP) for United States (U.S.) West Coast Fisheries for Highly Migratory Species (HMS), U.S. fishermen participating in the Pacific Hook and Line fishery (also known as the albacore troll and pole-and-line fishery) are required to obtain an HMS permit. Permit holders are required to complete and submit logbooks documenting their daily fishing activities, including catch and effort for each fishing trip. Logbook forms must be completed within 24 hours of the completion of each fishing day and submitted to the Southwest Fisheries Science Center (SWFSC) within 30 days of the end of each trip. These data and associated analyses help the SWFSC provide fisheries information to researchers and the needed management advice to the U.S. in its negotiations with foreign fishing nations exploiting HMS.

II. Method of Collection

Respondents have a choice of either electronic data submission or paper forms. Methods of submission include secure electronic transmission and mailing of paper forms.

III. Data

OMB Control Number: 0648-0223.

Form Number(s): NOAA Form 88-197.

Type of Review: Regular submission (extension of a current information collection).

Affected Public: Business or other for-profit organizations.

Estimated Number of Respondents: 699.

Estimated Time per Response: 1 hour.

Estimated Total Annual Burden Hours: 2,794.

Estimated Total Annual Cost to Public: $2,179.32 in recordkeeping/reporting costs.

Respondent's Obligation: Mandatory.

Legal Authority: Fishery Management Plan for the United States West Coast Fisheries for Highly Migratory Species.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-00743 Filed 1-14-26; 8:45 am]

BILLING CODE 3510-22-P